ENVIRONMENTAL PROTECTION AGENCY

40 CFR Part 180

[EPA-HQ-OPP-2011-0082; FRL-8886-7]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before October 7, 2011.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at Antimicrobials Division (7510P), Biopesticides and Pollution Prevention Division (7511P), and Registration Division (7505P), Office of Pesticide Programs, Environmental Protection Agency, 1200 Pennsylvania Ave., NW., Washington, DC 20460-0001.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerance

1. PP 1E7863. (EPA-HQ-OPP-2011-0433). Interregional Research Project Number 4 (IR-4), 500 College Rd. East, Suite 201 W, Princeton, NJ 08540, requests to establish tolerances in 40 CFR part 180 for residues of the insecticide dinotefuran, (RS)-1-methyl-2-nitro-3-((tetrahydro-3-furyl)methyl)guanidine, including its metabolites and degradates, in or on berry, low growing, except strawberry, subgroup 13-07H at 0.2 parts per million (ppm); watercress at 5.0 ppm; onion, green, subgroup 3-07B at 6.0 ppm; onion, bulb, subgroup 3-07A at 0.07 ppm; peach at 0.9 ppm; vegetable, tuberous and corm, subgroup 1C at 0.05 ppm; fruit, small, vine climbing, except fuzzy kiwifruit, subgroup 13-07F at 0.9 ppm; and tea, plucked leaves at 25.0 ppm. Mitsui Chemicals Agro, Inc. has submitted practical analytical methodology for detecting and measuring levels of dinotefuran and its metabolites, 1-methyl-3-(tetrahydro-3-furymethyl)-urea (UF) and 1-methyl-3-(tetrahydro-3-furymethyl) guanidine (DN), in or on raw agricultural commodities. The high performance liquid chromatography (HPLC) method was validated for determination of dinotefuran, DN and UF in or on tomatoes and peppers, cucurbits, brassica, grapes, potatoes, mustard greens, and lettuce for raw agricultural commodity matrices and in or on tomato paste and puree, grape juice and raisins and potato chips, granules, and wet peel for processed commodity matrices. After extraction with a water/acetonitrile mixture and clean up with hexane and extraction columns, concentrations of dinotefuran and its metabolites were quantified after HPLC separation by tandem mass spectrometry (MS/MS) detection. Contact: Sidney Jackson, (703) 305-7610, e-mail address: jackson.sidney@epa.gov.

2. PP 1E7881. (EPA-HQ-OPP-2011-0541). IR-4, 500 College Rd. East, Suite 201 W, Princeton, NJ 08540, requests to establish tolerances in 40 CFR part 180 for combined residues of the insecticide fenpyroximate, (E)-1,1-dimethylethyl 4-[[[[(1,3-dimethyl-5-phenoxy-1H-pyrazol-4-yl)methylene]amino] oxy]methyl]benzoate and its Z-isomer, (Z)-1,1-dimethylethyl 4-[[[[(1,3-dimethyl-5-phenoxy-1H-pyrazol-4-yl)methylene]amino]oxy]methyl]benzoate, in or on avocado at 0.20 ppm; sapote, black at 0.20 ppm; canistel at 0.20 ppm; sapote, mamey at 0.20 ppm; mango at 0.20 ppm; papaya at 0.20 ppm; sapodilla at 0.20 ppm; star apple at 0.20 ppm; bean, snap at 0.40 ppm; and tea, plucked leaves at 15 ppm. An enforcement method has been developed which involves extraction of fenpyroximate from crops with acetone, filtration, partitioning and cleanup, and analysis by gas chromatography (GC) using a nitrogen/phosphorous detector (NPD). Contact: Sidney Jackson, (703) 305-7610, e-mail address: jackson.sidney@epa.gov.

3. PP 1E7898. (EPA-HQ-OPP-2011-0657). IR-4, 500 College Rd. East, Suite 201 W, Princeton, NJ 08540, in cooperation with Syngenta Crop Protection, LLC, P.O. Box 18300, Greensboro NC 27419, requests to establish tolerances in 40 CFR part 180 for residues of the herbicide S-metolachlor (free and bound), S-2-chloro-N-(2-ethyl-6-methylphenyl)-N-(2-methoxy-1-methylethyl)acetamide, its R-enantiomer, and its metabolites, determined as the derivatives, 2-(2-ethyl-6-methylphenyl) amino-1-propanol and 4-(2-ethyl-6-methylphenyl)-2-hydroxy-5-methyl-3-morpholinone, in or on cilantro, leaves, fresh at 8.0 ppm; cilantro, leaves, dried at 8.0 ppm; coriander, seed at 0.13 ppm, and beet, garden, leaves at 1.8 ppm. Syngenta has developed and validated analytical methodology for enforcement purposes. This method has been submitted to the Agency and is in Pesticide Analytical Method Vol. II (PAM II), Method I. An extensive database of method validation data using this method on various crop commodities is available. Contact: Sidney Jackson, (703) 305-7610, e-mail address: jackson.sidney@epa.gov.

4. PP 1E7904. (EPA-HQ-OPP-2011-0665). IR-4, 500 College Rd. East, Suite 201 W, Princeton, NJ 08540, requests to establish a tolerance in 40 CFR part 180 for residues of the insecticide emamectin benzoate, 4′-epi-methylamino-4′-deoxyavermectin B1 benzoate (a mixture of a minimum of 90% 4′-epi-methylamino-4′-deoxyavermectin B1a and a maximum of 10% 4′-epi-methlyamino-4′deoxyavermectin B1b benzoate), and its metabolites 8,9 isomer of the B1a and B1b component of the parent insecticide, in or on vegetable, cucurbit, group 9 at 0.03 ppm. Adequate analytical methods (HPLC-fluorescence methods) are available for enforcement purposes. Contact: Andrew Ertman, (703) 308-9367, e-mail address: ertman.andrew@epa.gov.

5. PP 1G7889. (EPA-HQ-OPP-2011-0674). Syngenta Crop Protection, LLC, P.O. Box 18300, Greensboro, NC 27419-8300, requests to establish temporary tolerances in 40 CFR part 180 for residues of the fungicide acibenzolar S-methyl for an experimental use permit (EUP), in or on apple, grapefruit, and pears at 0.05 ppm. Syngenta Analytical Method AG-671A is a practical and valid method for the determination and confirmation of acibenzolar S-methyl (CGA245704) in raw agricultural commodities (RACs) and processing substrates from the tobacco, leafy (including Brassica) and fruiting vegetable crop groups at a limit of quantitation (LOQ) of 0.02 ppm. The method involves extraction, solid phase cleanup of samples with analysis by HPLC with ultraviolet (UV) detection or confirmatory LC/MS. Contact: Rose Mary Kearns, (703) 305-5611, e-mail address: kearns.rosemary@epa.gov.

Amended Tolerance

PP 1E7881. (EPA-HQ-OPP-2011-0541). IR-4, 500 College Rd. East, Suite 201 W, Princeton, NJ 08540, requests to amend the tolerances in 40 CFR 180.566 for combined residues of the insecticide fenpyroximate, (E)-1,1-dimethylethyl 4-[[[[(1,3-dimethyl-5-phenoxy-1H-pyrazol-4-yl)methylene]amino] oxy]methyl]benzoate and its Z-isomer, (Z)-1,1-dimethylethyl 4-[[[[(1,3-dimethyl-5-phenoxy-1H-pyrazol-4-yl)methylene]amino]oxy]methyl]benzoate, in or on cucumber from 0.10 ppm to 0.25 ppm; fruit, citrus, citrus, group 10-10 tolerance at 0.60 ppm; vegetable, fruiting, group 8-10 tolerance at 0.20 ppm; and fruit, pome, group 11-10 tolerance at 0.40 ppm. An enforcement method has been developed which involves extraction of fenpyroximate from crops with acetone, filtration, partitioning and cleanup, and analysis by GC using a nitrogen/phosphorous detector (NPD). Contact: Sidney Jackson, (703) 305-7610, e-mail address: jackson.sidney@epa.gov.

New Tolerance Exemption

PP 0F7747. (EPA-HQ-OPP-2011-0139). Pace Chemicals Ltd., 8321 Willard St., Burnaby, British Columbia, V3N 2X3, c/o Eliot Harrison, Lewis & Harrison LLC, 122 C St. NW., Suite 740, Washington, DC 20001, requests to establish an exemption from the requirement of a tolerance for residues of the antimicrobial dimethyl didecyl ammonium chloride (DDAC), in or on Brassica (broccoli seeds). DDAC was extracted from the crop matrix with acetonitrile followed by shaking with steel balls to pulverize the plant material. The extract was diluted with acetonitrile and centrifuged, then evaporated to 1 milliliter (ml) under a nitrogen stream. The extract is analyzed using LC-MS/LC. Contact: Tracy Lantz, (703) 308-6415, e-mail address: lantz.tracy@epa.gov.

Amended Tolerance Exemption

1. PP 1E7893. (EPA-HQ-OPP-2011-0604). Cognis Corporation, c/o Lewis & Harrison LLC, 122 C Street, NW., Suite 740, Washington, DC 20001, requests to amend an exemption from the requirement of a tolerance in 40 CFR 180.910 and 40 CFR 180.930 to set maximum use levels of 2-ethylhexanol (CAS No. 104-76-7) of 20% in pesticide formulations when used as a pesticide inert ingredient. The petitioner believes no analytical method is needed because this information is not required for a tolerance exemption. Contact: John Redden, (703) 305-1969, e-mail address: redden.john@epa.gov.

2. PP 1F7896. (EPA-HQ-OPP-2011-0669). AgraQuest, Inc., 1540 Drew Ave., Davis, CA 95618, requests to amend/expand an existing exemption from the requirement of a tolerance in 40 CFR 180.1209 by including the residues of the microbial pesticide Bacillus subtilis strain QST 713 variant Soil when used in or on all food commodities. An analytical method for detecting Bacillus subtilis strain QST 713 variant Soil is not applicable. It is expected that, when used as proposed, Bacillus subtilis strain QST 713 variant Soil would not result in residues that are of toxicological concern. Contact: Michael Glikes, (703) 305-6231, e-mail address: glikes.michael@epa.gov.

List of Subjects in 40 CFR Part 180

Environmental protection, Agricultural commodities, Feed additives, Food additives, Pesticides and pests, Reporting and recordkeeping requirements.

Dated: August 28, 2011.
Lois Rossi,
Director, Registration Division, Office of Pesticide Programs.

[FR Doc. 2011-22845 Filed 9-6-11; 8:45 am]

BILLING CODE 6560-50-P